DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods for Predicting Properties of Molecules

Richard Beger, Jon G. Wilkes (FDA).

DHHS Reference No. E-297-01/0 filed 07 Mar 2002.

Licensing Contact: Dale Berkley; 301/496-7735 ext. 223; e-mail: berkleyd@od.nih.gov.

The invention is a method for predicting the biological, chemical, and physical properties of molecules from their chemical shift data using through-bond and spatial distance connectivity patterns. In this method, predicted NMR chemical shift data that has already been structurally assigned in the process of developing the spectral predictions is used to construct a model that predicts biological, chemical and physical properties of the molecule. Since the structural assignments are only used to established molecular distance connectivity relationships, models can be developed for sets of molecules that do not share a common backbone geometry. In model development and use there is no molecular docking step. These models correlate particular molecules with desired “endpoints,” including receptor-ligand binding, cancer effects, drug absorption and others. The new technique is a three dimensional Quantitative Structure Data-Activity Relationship (QSDAR) based on the spectrum-activity leg in the triangular structure-spectrum-activity relationship. The invention provides a quantitative relationship between spectra and certain properties or activities of the molecule, and will have important implications in the search for new therapeutic drugs. 3D-QSDAR Modelling is a very rapid objective process compared to conventional predictive methods. In comparable published results, the 3D-QSDAR model quality consistently exceeds that of conventional QSAR predictive methods.

GP41 Inhibitor

G. Marius Clore et al. (NIDDK).

DHHS Reference No. E-252-01/0 filed 17 Dec 2001.

Licensing Contact: Carol Salata; 301/496-7735 ext. 232; e-mail: salatac@od.nih.gov.

The technology relates to a chimeric molecule, NCCG-gp41, in which the internal trimeric helical coiled-coil of the ectodomain of gp41 is fully exposed and stabilized by both fusion to a minimal ectodomain core of gp41 and by engineered intersubunit disulfide bonds. NCCG-gp41 inhibits HIV envelope mediated cell fusion at nonomolar concentrations with an IC50 of 16 nM. It is proposed that NCCG-gp41 targets the exposed C-terminal region of the gp41 ectodomain in its pre-hairpin intermediate state, thereby preventing the formation of the fusogenic form of the gp41 ectodomain that comprises a highly stable trimer of hairpins arranged in a six-helix bundle. NCCG-gp41 has potential as (a) an HIV therapeutic agent that inhibits cell entry; (b) as an AIDS vaccine and; (c) as a component of a high throughput screening assay for small molecule inhibitors of HIV envelope mediated cell fusion. Antibodies have been raised against NCCG-gp41 that inhibit HIV envelope mediated cell fusion. This invention is further described in J. Biol. Chem. 2001 Aug 3;276(31):29485-9.

Immunization for Ebola Virus Infection

Gary Nabel (NIAID/VRC), Anthony Sanchez.

Serial No. 60/068,655 filed 23 Dec 1997; Serial No. 09/913,909 filed 17 Aug 2001.

Licensing Contact: Carol Salata; 301/496-7735 ext. 232; e-mail: salatac@od.nih.gov.

The Ebola viruses, and the genetically related Marburg virus, are filoviruses associated with outbreaks of highly lethal hemorrhagic fever in humans and primates in North America, Europe and Africa. This invention relates to Ebola virus vaccines comprising nucleic acid molecules encoding Ebola viral proteins (including the transmembrane form of the viral Glycoprotein (GP), the secreted form of the viral Glycoprotein (sGP) and the viral nucleoprotein (NP)). The nucleic acid molecules of the vaccines of the invention encode structural gene products of any Ebola viral strain including the Zaire, Sudan, Ivory Coast and Reston strains as well as the genetically related Marburg virus strains. The invention relates to the nucleic acid vaccines as well as the corresponding protein vaccines. The invention also provides methods for immunizing a subject against disease caused by infection with Ebola virus.

Dated: May 3, 2002.
Jack Spiegel,
Director, Division of Technology Development and Transfer, Office of Technology Transfer, National Institutes of Health.

[FR Doc. 02-13018 Filed 5-22-02; 8:45 am]

BILLING CODE 4140-01-P